DEPARTMENT OF HOMELAND SECURITY

Federal Emergency Management Agency

[Docket ID FEMA-2018-0001]

Notice of Adjustment of Countywide per Capita Impact Indicator

AGENCY: Federal Emergency Management Agency, DHS.

ACTION: Notice.

SUMMARY: FEMA gives notice that the countywide per capita impact indicator under the Public Assistance program for disasters declared on or after October 1, 2018, will be increased.

DATES: This adjustment applies to major disasters declared on or after October 1, 2018.

FOR FURTHER INFORMATION CONTACT: Jonathan Hoyes, Recovery Directorate, Federal Emergency Management Agency, 500 C Street SW, Washington, DC 20472, (202) 646-3834.

SUPPLEMENTARY INFORMATION: In assessing damages for area designations under 44 CFR 206.40(b), FEMA uses a countywide per capita indicator to evaluate the impact of the disaster at the county level. FEMA will adjust the countywide per capita impact indicator under the Public Assistance program to reflect annual changes in the Consumer Price Index for All Urban Consumers published by the Department of Labor.

FEMA gives notice of an increase in the countywide per capita impact indicator to $3.78 for all disasters declared on or after October 1, 2018.

FEMA bases the adjustment on an increase in the Consumer Price Index for All Urban Consumers of 2.7 percent for the 12-month period that ended in August 2018. The Bureau of Labor Statistics of the U.S. Department of Labor released the information on September 13, 2018.

Catalog of Federal Domestic Assistance No. 97.036, Disaster Grants—Public Assistance (Presidentially Declared Disasters)

Brock Long,
Administrator, Federal Emergency Management Agency.

[FR Doc. 2018-22886 Filed 10-19-18; 8:45 am]

BILLING CODE 9111-11-P